DEPARTMENT OF HEALTH AND HUMAN SERVICES

National Institutes of Health

Office of the Director; Office of Dietary Supplements: Notice of Opportunity for Public Comment and Public Meeting

Background

The Office Dietary Supplements (ODS) was established in the Office of the Director, NIH, in 1995 as a major provision of the Dietary Supplement Health and Education Act of 1994 (DSHEA). A key early activity was the development of a Strategic Plan to define the mission of ODS and to define program goals. It was prepared with considerable input from NIH Institutes and Centers, several Federal agencies, consumers, and other interested parties. The original Strategic Plan guided ODS activities and programs from 1998 to 2003.

In 2003, the Office of Dietary Supplements undertook a public process to review its original Strategic Plan and developed a revised Strategic Plan for 2004-2009 entitled, “Promoting Quality Science in Dietary Supplement Research, Education, and Communication”. This document was published in January 2004 and is available by e-mail request to ods@nih.gov, and on the ODS Web site at http://ods.od.nih.gov.

The revised ODS Strategic Plan for 2004-2009 reviews the programs and activities that were initiated under the original Strategic plan during 1998-2003 and identified five major program goals related to research, education and communication for 2004-2009:

• Expand the evaluation of the role of dietary supplements in disease prevention and in reduction of risk factors associated with disease.

• Foster research that evaluates the role of dietary supplements in maintaining and improving optimal physical and mental health and performance.

• Stimulate and support research to further understanding of the biochemical and cellular effects of dietary supplements on biological systems and their physiological impact across the life cycle.

• Promote and support the development and improvement of methodologies appropriate to the scientific study of dietary supplement ingredients.

• Expand and conduct outreach activities that inform and educate the public, health care providers, and scientists about the benefits and risks of dietary supplements.

Since its inception in 1995 under DSHEA, the original and revised strategic plans focus on implementation of the ODS Mission: “to strengthen knowledge and understanding of dietary supplements by evaluating scientific information, stimulating and supporting research, disseminating research results, and educating the public to foster an enhanced quality of life and health for the U.S. population.''

The ODS will hold an open public meeting on May 20, 2005 at the location and time listed below to receive comments and suggestions on additional needs and opportunities related to the 2004-2009 ODS Strategic Plan. Information about the meeting, including a link to the registration form and the tentative agenda, is available on ODS Web site http://ods.od.nih.gov. There is no registration fee. The overall purpose of this public meeting is to provide interested parties a time to identify new opportunities and emerging needs for possible incorporation in the ODS research, education, and communication programs and activities. To address this purpose, guidance is being requested from all persons and organizations in the dietary supplement community.

Materials that describe the current ODS programs and activities, information about the public meeting, and a link to the meeting registration form are available on the ODS Web site at http://ods.od.nih.gov. In addition, the materials are available from the Office at the address listed below. On or about April 15, 2005, information and data on ODS programs and activities will be updated and will be available on the ODS Web site and at the address listed below as well as at the public meeting.

The open meeting will begin with a brief presentation of the current and emerging programs and activities of the ODS. Several invited speakers representing the broad range of interests in the dietary supplement user community will be asked to comment on emerging needs and opportunities that can enhance the scope and depth of ODS programs. There will be an opportunity for individuals and organizations to provide their views and suggestions on possible additional directions that ODS should consider in its five year Strategic Plan.

We will use all information received at the meeting as well as written comments received by 5 p.m. e.s.t., on June 30, 2005 in response to this request in considering modifications to the ODS Strategic Plan for 2004-2009. Comments and suggestions should be forwarded to the address listed below or sent to ODSplan@od.nih.gov. Results of this review will be shared with the ODS Trans-NIH/Agency Working Group, a Federal interagency group convened by ODS to enhance cooperation and communication across Federal departments, agencies, institutes, centers, and offices concerning research, education , and communication about dietary supplements. In addition, results of this review will be posted on the ODS Web site and will be available upon request.

Meeting Title: Office of Dietary Supplements Public Meeting.

Date: May 20, 2005.

Time: 9 a.m.-4 p.m.

Place: Marriott Bethesda North Hotel and Conference Center, 5701 Marinelli Road, North Bethesda, MD 20852.

Contact Person: Kenneth D. Fisher, Ph.D., Office of Dietary Supplements, 6100 Executive Boulevard, Room 3B01, Bethesda, MD 20892-7517, Phone: (301) 435-2920, Fax: (301) 480-1845, e-mail: ODSplan@od.nih.gov.

Public Participation

The meeting is open to the public with attendance limited by the availability of space on a first come, first served basis. Interested persons and organizations that wish to present oral comments should indicate this when registering on the ODS Web site or at http://www.scgcorp.com/odspublicmtg, no later than May 6, 2005.

Oral comments will be limited to three minutes; however, submission of additional documentation is encouraged. Individuals who register to speak will be assigned in the order in which they registered. Due to time constraints, only one representative from each organization will be allotted time for oral presentation. We may limit the number of speakers and the time allotted depending on the number of registrants. All requests to register should include the name, address, telephone number, and business or professional affiliation of the interested party. If time permits, we will allow any person attending the meeting who has not registered to speak in advance of the meeting to make a brief oral statement during the time set aside for public comments and at the chairperson's discretion.

We encourage individuals unable to attend the meeting and all interested parties to send written comments to the Office of Dietary Supplements by mail, fax, or electronically. If possible, comments that are mailed or faxed should also be forwarded electronically.

Persons needing special assistance, such as sign language interpretation or other special accommodations at the meeting should indicate this when registering or contact the Office of Dietary Supplements at the address or telephone number listed no later than April 29, 2005.

Dated: March 23, 2005.
Paul M. Coates,
Director, Office of Dietary Supplements, Office of the Director, National Institutes of Health.

[FR Doc. 05-6606 Filed 4-1-05; 8:45 am]

BILLING CODE 4140-01-P